DEPARTMENT OF THE INTERIOR

Bureau of Land Management

[LLMT922200-11-L13100000-FI0000-P; MTM 89460, MTM 89461, MTM 89467 and MTM 89468]

Notice of Proposed Reinstatement of Terminated Oil and Gas Leases MTM 89460, MTM 89461, MTM 89467, and MTM 89468, Montana

AGENCY: Bureau of Land Management, Interior.

ACTION: Notice.

SUMMARY: Per 30 U.S.C. 188(d), Sleepy Hollow Oil & Gas, LLC timely filed a petition for reinstatement of competitive oil and gas leases MTM 89460, MTM 89461, MTM 89467, and MTM 89468, Fergus County, Montana. The lessee paid the required rentals accruing from the date of termination.

No leases were issued that affect these lands. The lessee agrees to new lease terms for rentals and royalties of $10 per acre and 16⅔ percent. The lessee paid the $500 administration fee for the reinstatement of each lease and $163 cost for publishing this Notice.

The lessee met the requirements for reinstatement of the leases per Sec. 31 (d) and (e) of the Mineral Leasing Act of 1920 (30 U.S.C. 188). We are proposing to reinstate the leases, effective the date of termination subject to:

• The original terms and conditions of the leases;

• The increased rental of $10 per acre;

• The increased royalty of 16⅔ percent; and

• The $163 cost of publishing this Notice.

FOR FURTHER INFORMATION CONTACT: Teri Bakken, Chief, Fluids Adjudication Section, Bureau of Land Management Montana State Office, 5001 Southgate Drive, Billings, Montana 59101-4669, 406-896-5091.

Teri Bakken,
Chief, Fluids Adjudication Section.

[FR Doc. 2011-8072 Filed 4-4-11; 8:45 am]

BILLING CODE 4310-DN-P